DEPARTMENT OF THE INTERIOR

Bureau of Land Management

[BLM_AZ_FRN_MO4500182907]

Notice of Filing of Plats of Survey; Arizona

AGENCY: Bureau of Land Management, Interior.

ACTION: Notice of official filing.

SUMMARY: The plats of survey of the following described land were officially filed in the Bureau of Land Management (BLM), Arizona State Office, Phoenix, Arizona on the dates indicated. The surveys announced in this notice are necessary for the management of lands administered by the agency indicated.

ADDRESSES: These plats will be available for inspection in the Arizona State Office, Bureau of Land Management, One North Central Avenue, Suite 800, Phoenix, Arizona 85004-4427. Protests of any of these surveys should be sent to the Arizona State Director at the above address.

FOR FURTHER INFORMATION CONTACT: Geoffrey A. Graham, Chief Cadastral Surveyor of Arizona; (602) 417-9558; ggraham@blm.gov. Persons who use a telecommunications device for the deaf (TDD) may call the Federal Relay Service (FRS) at 7-1-1 to leave a message or question for the above individual. The FRS is available 24 hours a day, 7 days a week. You will receive a reply during normal business hours.

SUPPLEMENTARY INFORMATION:

The Gila and Salt River Meridian, Arizona

The plat, in one sheet, representing the dependent resurvey of a portion of the subdivisional lines, the subdivision of sections 4 and 9, and a metes-and-bounds survey of Tract 37, Township 14 North, Range 6 East, accepted May 21, 2024, and officially filed May 23, 2024, for Group 1230, Arizona.

This plat was prepared at the request of the United States Forest Service.

The plat, in one sheet, representing the dependent resurvey of a portion of the subdivisional lines, the subdivision of section 22, and the metes-and-bounds survey of a portion of the Sunset Crater Volcano National Monument boundary, Township 23 North, Range 8 East, accepted June 25, 2024, and officially filed June 28, 2024, for Group 1231, Arizona.

This plat was prepared at the request of the National Park Service.

The plat, in two sheets, representing the dependent resurvey of a portion of the Sixth Standard Parallel North (south boundary of Township 25 North, Range 13 East), the survey of a portion of the Sixth Standard Parallel North (south boundary of township 25 North, Range 12 ½ East), a portion of the Third Guide Meridian East (east boundary Township 25 North, Range 12 ½ East, south boundary, the subdivisional lines and the subdivision of certain sections, Township 24 North, Range 13 East, accepted August 27, 2024, and officially filed August 29, 2024, for Group 1223, Arizona.

This plat was prepared at the request of the Bureau of Indian Affairs.

The plat, in one sheet, representing the survey of the east and north boundaries, the subdivisional lines and the subdivision of certain sections, Township 37 North, Range 26 East, accepted August 27, 2024, and officially filed August 29, 2024, for Group 1227, Arizona.

This plat was prepared at the request of the Bureau of Indian Affairs.

The plat, in one sheet, representing the dependent resurvey of a portion of the subdivisional lines and the subdivision of section 18, Township 25 North, Range 29 East, accepted June 25, 2024, and officially filed June 28, 2024, for Group 1232, Arizona.

This plat was prepared at the request of the Bureau of Indian Affairs.

A person or party who wishes to protest any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

(Authority: 43 U.S.C. chapter 3)

Geoffrey A. Graham,
Chief Cadastral Surveyor of Arizona.

[FR Doc. 2024-21712 Filed 9-20-24; 8:45 am]

BILLING CODE 4331-12-P